DEPARTMENT OF AGRICULTURE

Natural Resources Conservation Service

Notice of Availability of Finding of No Significant Impact and Environmental Assessment for Use of NRCS Conservation Practices To Address Natural Resource Concerns on Non-Federal Lands in the New England States and New York

AGENCY: Natural Resources Conservation Service, U.S. Department of Agriculture.

ACTION: Notice of Availability of finding of no significant impact and environmental assessment.

SUMMARY: Pursuant to Section 102(2)(C) of the National Environmental Policy Act of 1969, as amended; the Council of Environmental Quality Guidelines (40 CFR Part 650); and the Natural Resources Conservation Service Regulations (7 CFR Part 650); the Natural Resources Conservation Service, U.S. Department of Agriculture, gives notice that an environmental assessment (EA) has been prepared for the use of NRCS conservation practices to address natural resource concerns on non-federal lands in the New England States and New York. The environmental assessment of this federally assisted action indicates that the provision of financial assistance to implement common conservation practices identified within the EA will not result in significant individual or cumulative impacts on the quality of the human environment, particularly when focusing on the significant adverse impacts that NEPA is intended to help decision makers avoid and mitigate against. As a result of these findings, Ms. Margo L. Wallace (Connecticut), Ms. Joyce Swartzendruber (Maine), Ms. Christine Clarke (Massachusetts), Mr. George Cleek, IV, (New Hampshire), Mr. Ron Alvarado (New York), Ms. Roylene Rides at the Door (Rhode Island), and Ms. Judith M. Doerner (Vermont), State Conservationists, have made a Finding of No Significant Impact (FONSI) and determined that the preparation and review of an environmental impact statement are not required.

FOR FURTHER INFORMATION CONTACT: Ms. Joyce Swartzendruber, State Conservationist, Natural Resources Conservation Service, 967 Illinois Avenue, Suite 3, Bangor, ME 04401. Telephone 207-990-9100 extension#3.

Single copies of the EA or additional information on matters related to this Federal Register Notice, may be obtained by contacting Ms. Joyce Swartzendruber at the above address or Web site at:

ftp://ftp-fc.sc.egov.usda.gov/ENTSC/Outgoing/FONSI_and_Regional_EA.pdf.

Comments can be posted online at the www.regulations.gov Web site or mailed to the above address. Comments must be received no later than 30 days after this notice is published.

DATES: To ensure consideration, comments on the EA and FONSI must be received or post-marked on or before 30 days from publication on this EA and FONSI in the Federal Register.

SUPPLEMENTARY INFORMATION: No administrative action on implementation of the proposal will be taken until 30 days after the date of this publication in the Federal Register.

Dated: April 30, 2007.
Joyce A. Swartzendruber,
State Conservationist, Maine.

[FR Doc. E7-8790 Filed 5-7-07; 8:45 am]

BILLING CODE 3410-16-P